Proclamation 10282 of October 8, 2021

General Pulaski Memorial Day, 2021

By the President of the United States of America

A Proclamation

On General Pulaski Memorial Day, we honor Brigadier General Casimir Pulaski, a Polish-born hero of the American Revolution, who gave his life 242 years ago in defense of our cause to establish a free and independent Nation. Known as the “Father of the American Cavalry” for his leadership and military skills, General Pulaski's service and sacrifice remain a shining example of the countless contributions that immigrants have made to help build our great Nation.

Today, General Pulaski's legacy and contributions to our democracy are honored by more than 9 million Polish-Americans in communities across our country. Polish-Americans have played an integral role in the growth of our Nation—defending our country in uniform, protecting our communities as first responders, starting new businesses and growing our economy, educating the next generation of American leaders, working on the front lines of the pandemic, and creating art that inspires us, to name just a few examples.

In 1929, the Congress recognized General Pulaski's enduring impact on American society by declaring October 11, “General Pulaski Memorial Day.” Eighty years later, the Congress granted him honorary United States citizenship. Today, States, cities, and communities all across our Nation celebrate the memory of General Casimir Pulaski at parks, schools, and landmarks that bear his name—serving as a reminder of his heroism and the sacrifice he made in defense of our newly formed Nation.

On this day, we celebrate the life of General Casimir Pulaski and the ideals and democratic values for which he bravely gave his life—values shared by the United States and Poland, which underpin the enduring bond of friendship between our countries.

NOW, THEREFORE, I, JOSEPH R. BIDEN JR., President of the United States of America, by virtue of the authority vested in me by the Constitution and the laws of the United States, do hereby proclaim October 11, 2021, as “General Pulaski Memorial Day.” I encourage all Americans to commemorate this occasion with appropriate programs and activities paying tribute to General Casimir Pulaski and honoring all those who defend the freedom of our great Nation.

IN WITNESS WHEREOF, I have hereunto set my hand this eighth day of October, in the year of our Lord two thousand twenty-one, and of the Independence of the United States of America the two hundred and forty-sixth.

[FR Doc. 2021-22522

Filed 10-13-21; 8:45 am]

Billing code 3395-F2-P